DEPARTMENT OF THE INTERIOR

National Park Service

[NPS-WASO-NAGPRA-NPS0038098; PPWOCRADN0-PCU00RP14.R50000]

Notice of Intended Repatriation: State Historical Society of Wisconsin, Madison, WI

AGENCY: National Park Service, Interior.

ACTION: Notice.

SUMMARY: In accordance with the Native American Graves Protection and Repatriation Act (NAGPRA), the State Historical Society of Wisconsin, otherwise referred to as the Wisconsin Historical Society (WHS), intends to repatriate certain cultural items that meet the definition of unassociated funerary objects, sacred objects, and/or objects of cultural patrimony and that have a cultural affiliation with the Indian Tribes or Native Hawaiian organizations in this notice.

DATES: Repatriation of the cultural items in this notice may occur on or after July 17, 2024.

ADDRESSES: Jacqueline Pozza Reisner, Curator of American Indian Collections, Wisconsin Historical Society, 204. S Thornton Avenue, Madison, WI 53703, telephone (680) 263-3537, email jacqueline.pozza@wisconsinhistory.org.

SUPPLEMENTARY INFORMATION: This notice is published as part of the National Park Service's administrative responsibilities under NAGPRA. The determinations in this notice are the sole responsibility of the State Historical Society of Wisconsin, and additional information on the determinations in this notice, including the results of consultation, can be found in the summary or related records. The National Park Service is not responsible for the determinations in this notice.

Abstract of Information Available

A total of two cultural items have been requested for repatriation:

The first item is a sacred object that is also a potential unassociated funerary object, as similar items are traditionally interred with the deceased. The item is described in WHS' catalog as an “otter skin medicine bag” and given the catalog number MI1983.238.210. The item consists of an otter pelt with beaded limbs and tail, all with attached brass bells. It holds five small pouches, four cloth and one paper, each tied shut. WHS' documentation indicates that this item was donated by Dr. Hans Heinrich Reese and his wife Tessa around 1964. Additional information about its original provenience or how the Reeses obtained the medicine bag is unknown.

The second item is both a sacred item and an object of cultural patrimony. It is incorrectly described in WHS' catalog as an “Ojibwe secular dance drum (bwaanidewe'igan)” and given the catalog number MI1983.237.571. The drum has a beaded band around its head with four tabs. It also contains a bell. WHS' documentation indicates that the drum was acquired by Leo and Bella Capser in the late 1950s or early 1960s. Additional information about its original provenience or how the Capsers obtained the drum is unknown.

Through consultation and research, WHS and the Bad River Band of Lake Superior Chippewa believe these items were obtained by the Reeses and Capsers on or near Madeline Island and that the items are Ojibwe. WHS has no documentation indicating either of these items contain or were treated with potentially hazardous substances in the past.

Determinations

The State Historical Society of Wisconsin has determined that:

• The two sacred objects described in this notice are specific ceremonial objects needed by a traditional Native American religious leader for present-day adherents to practice traditional Native American religion, according to the Native American traditional knowledge of a lineal descendant, Indian Tribe, or Native Hawaiian organization.

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Bad River Band of the Lake Superior Tribe of Chippewa Indians of the Bad River Reservation, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 17, 2024. If competing requests for repatriation are received, the State Historical Society of Wisconsin must determine the most appropriate requestor prior to repatriation. Requests for joint repatriation of the cultural items are considered a single request and not competing requests. The State Historical Society of Wisconsin is responsible for sending a copy of this notice to the Indian Tribes and Native Hawaiian organizations identified in this notice and to any other consulting parties.

Authority: Native American Graves Protection and Repatriation Act, 25 U.S.C. 3004 and the implementing regulations, 43 CFR 10.9.

Dated: June 10, 2024.
Mariah Soriano,
Acting Manager, National NAGPRA Program.

[FR Doc. 2024-13249 Filed 6-14-24; 8:45 am]

BILLING CODE 4312-52-P